DEPARTMENT OF THE INTERIOR

Fish and Wildlife Service

[Docket No. FWS-HQ-IA-2020-0080; FXIA16710900000-190-FF09A30000]

Endangered Species; Marine Mammals; Issuance of Permits

AGENCY: Fish and Wildlife Service, Interior.

ACTION: Notice of issuance of permits.

SUMMARY: We, the U.S. Fish and Wildlife Service, have issued permits to conduct certain activities with endangered species, marine mammals, or both. We issue these permits under the Endangered Species Act and Marine Mammal Protection Act.

ADDRESSES: Information about the applications for the permits listed in this notice is available online at www.regulations.gov. See SUPPLEMENTARY INFORMATION for details.

FOR FURTHER INFORMATION CONTACT: Brenda Tapia, by phone at 703-358-2185, via email at DMAFR@fws.gov, or via the Federal Relay Service at 800-877-8339.

SUPPLEMENTARY INFORMATION: We, the U.S. Fish and Wildlife Service (Service), have issued permits to conduct certain activities with endangered and threatened species in response to permit applications that we received under the authority of section 10(a)(1)(A) of the Endangered Species Act of 1973 (ESA; 16 U.S.C. 1531 et seq.).

After considering the information submitted with each permit application and the public comments received, we issued the requested permits subject to certain conditions set forth in each permit. For each application for an endangered species, we found that (1) the application was filed in good faith, (2) the granted permit would not operate to the disadvantage of the endangered species, and (3) the granted permit would be consistent with the purposes and policy set forth in section 2 of the ESA.

Availability of Documents

The permittees' original permit application materials, along with public comments we received during public comment periods for the applications, are available for review. To locate the application materials and received comments, go to www.regulations.gov and search for the appropriate permit number (e.g., 12345C) provided in the following table:

Endangered Species

Permit No. | Applicant | Permit issuance date
44888D | City of San Jose dba Happy Hollow Zoo | February 12, 2020.
08877D | Florida International University | February 20, 2020.
704025 | H&L Sales, Inc | February 12, 2020.
15052D | Potter Park Zoo, Ingham County | February 24, 2020.
40838D | Elyse Ellsworth | February 25, 2020.
35106D | Gulf Breeze Zoo, LLC | February 21, 2020.
44974D | New Jersey Aquarium, Adventure Aquarium | February 25, 2020.
219951 | Texas Tech University | February 26, 2020.
21468B | Joan Hemker | February 26, 2020.
64737A | Palfam Ranch Management LLC | February 26, 2020.
36848D | 4 J Conservation Center, Inc | February 26, 2020.
36949D | Stevens Forest | February 26, 2020.
46450D | Stevens Forest | February 26, 2020.
34708D | Sacramento Zoo | March 3, 2020.
33775D | Fresno Chaffee Zoo | March 3, 2020.
17189D | The Wild Animal Sanctuary | March 4, 2020.
18004D | The Wild Animal Sanctuary | March 4, 2020.
85048C | Kyle Wildlife Limited Partnership | July 22, 2019.
816505 | Ross Popenoe | March 20, 2020.
03134B | White Oak Conservation Holdings, LLC | April 28, 2020.
49149D | Toledo Zoological Society dba Toledo Zoo | April 28, 2020.
49667D | James A. Badman | May 6, 2020.
38051D | The Wild Animal Sanctuary | May 6, 2020.
796988 | Stephen Hall | May 6, 2020.
44219B | Kristine A. Holmberg | May 6, 2020.
695190 | Western Foundation of Vertebrate Zoology | June 10, 2020.
56427D | Dallas Zoo Management, Inc | June 10, 2020.
54979D | H. Yturria Land and Cattle Company | May 5, 2020.
86124C | H. Yturria Land and Cattle Company | May 5, 2020.
54616D | John Ball Zoo | June 11, 2020.
59204D | Center for the Conservation of Tropical Ungulates, LLC | June 11, 2020.

Authorities

We issue this notice under the authority of the Endangered Species Act, as amended (16 U.S.C. 1531 et seq.), and the Marine Mammal Protection Act, as amended (16 U.S.C. 1361 et seq.) and their implementing regulations.

Brenda Tapia,
Management Analyst/Program Analyst, Branch of Permits, Division of Management Authority.

[FR Doc. 2020-16847 Filed 7-31-20; 8:45 am]

BILLING CODE 4333-15-P